ELECTION ASSISTANCE COMMISSION

Extension of Comment Period for the Proposed Voluntary Voting System Guidelines 2.0 Principles and Guidelines

AGENCY: United States Election Assistance Commission.

ACTION: Notice of extension of the comment period for the Voluntary Voting System Guidelines 2.0 Principles and Guidelines.

SUMMARY: In accordance with the Help America Vote Act of 2002, the U.S. Election Assistance Commission (EAC) is publishing the Voluntary Voting System Guidelines 2.0 Principles and Guidelines (VVSG 2.0) for public comment. The VVSG 2.0 Principles and Guidelines provide high level principles and guidelines to which voting systems can be tested to determine if they provide basic functionality, accessibility, and security capabilities.

DATES: The Comment period has been extended to 5:00 p.m. EST on June 7, 2019.

Submission of Comments: The public may submit comments through one of the two following methods provided by the EAC: (1) By mail to Voluntary Voting System Guidelines 2.0. Principles and Guidelines Comments, U.S. Election Assistance Commission, 1335 East-West Highway, Suite 4300, Silver Spring, Maryland 20910, and (2) via online submission form at https://www.eac.gov/vvsg-form/. The email address votingsystemguidelines@eac.gov is no longer accepting comments.

In order to allow efficient and effective review of comments the EAC requests that:

(1) Comments refer to the specific section that is the subject of the comment.

(2) General comments regarding the entire document or comments that refer to more than one section be made as specifically as possible so that EAC can clearly understand to which portion(s) of the documents the comment refers.

(3) To the extent that a comment suggests a change in the wording of a Principal or Guideline or section of the guidelines, please provide proposed language for the suggested change.

To Obtain a Copy of the VVSG Volume Version 2.0 Principles and Guidelines: A complete copy of the draft VVSG 2.0 Principles and Guidelines is available from the EAC in electronic format. An electronic copy can be downloaded in PDF format on the EAC's website, http://www.eac.gov. In order to obtain a paper copy of the TGDC draft recommendations please mail a written request to Voluntary Voting System Guidelines 2.0 Principles and Guidelines Comments, U.S. Election Assistance Commission, 1335 East-West Highway, Suite 4300, Silver Spring, Maryland 20910.

FOR FURTHER INFORMATION CONTACT: Jerome Lavoto, Phone (301) 563-3929, or at https://www.eac.gov/contact/.

SUPPLEMENTARY INFORMATION: As required by Section 222(d) of HAVA the EAC is placing the proposed VVSG 2.0 Principles and Guidelines as submitted by the Technical Guidelines Development Committee (TGDC) out for a 90 public comment period. The EAC is asking for comments regarding all sections of the Principles and Guidelines including the proposed Structure of the VVSG 2.0. The Principles and Guidelines will subsequently be accompanied by Requirements, which will be distributed to the TGDC, the Standards Board, the Board of Advisors and submitted for public comment and consideration by the Commission.

The EAC made the decision to undertake the drafting of VVSG 2.0 Principles and Guidelines as a result of feedback received over several years from a variety of stakeholders including, but not limited to State and local election officials, voting system manufacturers and usability, accessibility and security interest groups.

The EAC Technical Guidelines Development Committee (TGDC) proposed a different structure for developing the VVSG 2.0 than in previous years. This structure differs significantly from previous versions of the VVSG because it is a high level principles and guidelines document. The Principles are high-level system design goals. The Guidelines are a broad description of the functions that make up a voting system. This new structure has significantly decreased the size and complexity of the VVSG from previous versions.

Unlike previous versions of the VVSG, this proposed version recommends that the Requirements for testing a voting system be separate and apart from the Principles and Guidelines. As proposed, the VVSG 2.0 Principles and Guidelines will be accompanied by a separate document that details the Requirements for how systems can meet the new Principles and Guidelines in order to obtain certification. The Requirements will subsequently be accompanied by Test Assertions for how the accredited test laboratories will validate that the system complies with the Requirements and the Principles and Guidelines.

The Requirements will be adjunct to the VVSG Principles and Guidelines itself and will be subject to public review and comment, including distribution to the EAC's TGDC, Standards Board and Board of Advisors for comment prior to consideration and implementation by the Commission.

The TGDC unanimously approved to recommend VVSG 2.0 Principles and Guidelines on September 12, 2017, and sent the Principles and Guidelines to the EAC Executive Director via the Director of the National Institute of Science and Technology (NIST), in the capacity of the Chair of the TGDC. The Commission will accept comments on the proposed structure of the VVSG 2.0 Principles and Guidelines as well as on the content of the Principles and Guidelines.

The Voluntary Voting System Guidelines version 2.0 Principles and Guidelines (VVSG 2.0), is the fifth iteration of national level voting system standards. The Federal Election Commission published the first two sets of federal standards in 1990 and 2002. The EAC then adopted Version 1.0 of the VVSG on December 13, 2005. In an effort to update and improve version 1.0 of the VVSG, on March 31, 2015, the EAC commissioners unanimously approved VVSG 1.1.

* * * * *

Clifford D. Tatum,
General Counsel, U.S. Election Assistance Commission.

[FR Doc. 2019-11555 Filed 6-3-19; 8:45 am]

BILLING CODE 6820-KF-P